DEPARTMENT OF HEALTH AND HUMAN SERVICES

Office of the Secretary

Findings of Research Misconduct

AGENCY: Office of the Secretary, HHS.

ACTION: Notice.

SUMMARY: Notice is hereby given that on January 13, 2006, the Department of Health and Human Services (HHS) Debarring Official, on behalf of the Secretary of HHS, issued a final notice of debarment based on the research misconduct findings of the U.S. Public Health Service (PHS) in the following case:

April Swe, University of Wisconsin-Madison: Based on the report of an investigation conducted by the University of Wisconsin-Madison (UWM) and additional analysis conducted by the Office of Research Integrity (ORI) in its oversight review, PHS found that Ms. Swe, former graduate student at UWM, engaged in research misconduct by fabricating data on thirty-nine (39) questionnaires of sibling human subjects associated with an autism study. The research was supported by National Institute on Aging, National Institutes of Health (NIH), grant R01 AG08768.

In a final decision dated January 13, 2006, the HHS Debarring Official, on behalf of the Secretary of HHS, issued the final debarment notice based on the PHS findings of research misconduct. The following administrative actions have been implemented for a period of three (3) years, beginning on January 13, 2006:

(1) Ms. Swe has been debarred from eligibility for or involvement as a principal in nonprocurement transactions (e.g., grants and cooperative agreements) of the Federal Government and from contracting or subcontracting with any Federal Government agency, except as provided in 45 CFR 76.120. This action is being taken pursuant to the debarment regulations at 45 CFR part 76.

(2) Ms. Swe has been prohibited from serving in any advisory capacity to PHS including but not limited to service on any PHS advisory committee, board, and/or peer review committee, or as consultant.

FOR FURTHER INFORMATION CONTACT: Director, Division of Research Investigations, Office of Research Integrity, 1101 Wootton Parkway, Suite 750, Rockville, MD 20852, (240) 453-8800.

Chris B. Pascal,
Director, Office of Research Integrity.

[FR Doc. E6-2235 Filed 2-15-06; 8:45 am]

BILLING CODE 4160-17-P